DEPARTMENT OF STATE

[Public Notice 3285]

Bureau of Nonproliferation; Determination Under the Arms Export Control Act

AGENCY: Department of State.

ACTION: Notice.

Pursuant to Section 654(c) of the Foreign Assistance Act of 1961, as amended, notice is hereby given that the Secretary of State has made a determination pursuant to Section 73 of the Arms Export Control Act and has concluded that publication of the determination would be harmful to the national security of the United States.

Dated: April 7, 2000.
Robert J. Einhorn,
Assistant Secretary of State for Nonproliferatiion, Department of State.

[FR Doc. 00-9348 Filed 4-13-00; 8:45 am]

BILLING CODE 4710-25-U